DEPARTMENT OF THE TREASURY

Internal Revenue Service

26 CFR Part 31

[REG-151687-10]

RIN 1545-BJ98

Withholding on Payments by Government Entities to Persons Providing Property or Services; Correction

AGENCY: Internal Revenue Service (IRS), Treasury.

ACTION: Correction to notice of proposed rulemaking.

SUMMARY: This document contains a correction to a notice of proposed rulemaking (REG-151687-10) that was published in the Federal Register on Monday, May 9, 2011 (76 FR 26678). The proposed regulation provides guidance relating to withholding by government entities on payments to persons providing property or services.

FOR FURTHER INFORMATION CONTACT: A.G. Kelley, (202) 622-6040 (not a toll free number).

SUPPLEMENTARY INFORMATION:

Background

The notice of proposed rulemaking (REG-151687-10) that is the subject of this correction is under section 3042(t) of the Internal Revenue Code.

Need for Correction

As published, the notice of proposed rulemaking (REG-151687-10) contains an error that may prove to be misleading and is in need of clarification.

Correction of Publication

Accordingly, the notice of proposed rulemaking (REG-151687-10), that was the subject of FR Doc. 2011-10758, is corrected as follows:

§ 31.3402(t)-1 [Corrected]

On Page 26679, column 2, under the paragraph heading § 31.3402(t)-1 Withholding requirement on certain payments made by government entities, line 7 from the bottom of the paragraph, the language “a mere renewal of a contract. A material” is corrected to read “a mere renewal of a contract that does not otherwise materially affect the property or services to be provided under the contract, the terms of payment for the property or services under the contract, or the amount payable for the property or services under the contract. A material”.

LaNita VanDyke,
Chief, Publications and Regulations Branch, Legal Processing Division, Associate Chief Counsel (Procedure and Administration).

[FR Doc. 2011-13928 Filed 6-6-11; 8:45 am]

BILLING CODE 4830-01-P